DEPARTMENT OF THE INTERIOR

Fish and Wildlife Service

[FWS-HQ-FAC-2022-N053; FF09F42300 FVWF97920900000 053]

Sport Fishing and Boating Partnership Council; Call for Nominations

AGENCY: Fish and Wildlife Service, Interior.

ACTION: Call for nominations.

SUMMARY: The Secretary of the Interior and the Secretary of Commerce (Secretaries) seek nominations for individuals to be considered for membership on the Sport Fishing and Boating Partnership Council.

DATES: Email submissions must be received by May 11, 2023.

ADDRESSES: Please email nominations to Tom McCann, Designated Federal Officer, Sport Fishing and Boating Partnership Council, at thomas_mccann@fws.gov.

FOR FURTHER INFORMATION CONTACT: Tom McCann, Designated Federal Officer, via email at thomas_mccann@fws.gov, or by telephone at 703-358-2056. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Secretaries seek nominations for individuals to be considered for membership on the Council. The Council advises the Secretary of the Interior and the Secretary of Commerce, through the Designated Federal Officer, on aquatic conservation and restoration endeavors in fresh, estuarine, and marine environments that benefit recreational fishery resources, enhance recreational boating, and encourage partnerships among industry, the public, and government to advance these efforts. The Council conducts its operations in accordance with the provisions of the Federal Advisory Committee Act (5 U.S.C. appendix 2). The Council functions solely as an advisory body. This call for nominations will fill 16 members' terms.

Council Duties

The Council's duties are solely advisory and include:

a. Providing advice that will assist the Secretaries in compliance with the Fish and Wildlife Act of 1956, the Magnuson-Stevens Fishery Conservation and Management Act, and other applicable statutes;

b. Fulfilling responsibilities established by Executive Order 12962, as modified by Executive Order 13474:

1. Monitoring specific Federal activities affecting aquatic systems and the recreational fisheries they support, and

2. Reviewing and evaluating the relation of Federal policies and activities to the status and conditions of recreational fishery resources;

c. Providing advice that will assist the Secretaries in fulfilling responsibilities established by the Infrastructure Investment and Jobs Act of 2021, including, but not limited to:

1. Studying the impact of derelict vessels and identifying recyclable solutions for recreational vessels, and

2. Reviewing the study from the Comptroller General of the United States that documents the impacts of nonmotorized vessels on waterway access points and the use of funding sources to improve access issues and provide nonmotorized boating safety programs, and identifying potential recommendations for the Secretaries based on that study;

d. Recommending policies or programs to increase public awareness and support for the Sport Fish Restoration and Boating Trust Fund;

e. Recommending policies or programs that foster conservation, stewardship, and ethical practices in recreational fishing and boating;

f. Recommending policies or programs to address climate change and strengthen climate resilience by protecting and restoring aquatic ecosystems and supporting biodiversity while maintaining or enhancing fishing and boating opportunities;

g. Recommending policies or programs to stimulate and expand angler and boater participation in the conservation and restoration of aquatic resources;

h. Recommending policies and programs to stimulate recreational fishing and boating opportunities for all Americans, and to remove barriers to access for youth, veterans, urban residents, and other underrepresented communities; and

i. Advising how the Secretaries can foster communication, education, and coordination among government, industry, anglers, boaters, and the public.

Council Makeup

The Council may consist of no more than 19 members, including ex officio members. Non-voting ex officio members include:

1. The Director of the U.S. Fish and Wildlife Service;

2. The Director of the National Marine Fisheries Service, National Oceanic and Atmospheric Administration; and

3. The President of the Association of Fish and Wildlife Agencies.

The Secretaries will select the remaining members from among, but not limited to, the organization/interests listed below. Appointed members must be senior-level representatives of their organizations and must have the ability to represent their designated constituencies.

1. State fish and wildlife resource management agencies (two members, one a director of a coastal State, and one a director of an inland State),

2. Saltwater and freshwater recreational fishing organizations,

3. Recreational boating organizations,

4. Recreational fishing and boating industries,

5. Recreational fishery resources conservation organizations,

6. Tribal resource management organizations,

7. Aquatic resource outreach and education organizations, and

8. Recreational fishing and/or boating diversity-based organizations.

Members will be appointed on a staggered term basis for terms that are not to exceed 3 years.

Members of the Council serve without compensation. However, while away from their homes or regular places of business, Council and subcommittee members engaged in Council or subcommittee business that the Designated Federal Official approves may be allowed travel expenses, including per diem in lieu of subsistence, as authorized by 5 U.S.C. 5703, in the same manner as persons employed intermittently in Federal Government service.

Nomination Method and Eligibility

Nominations should include a resume that provides contact information and a description of the nominee's qualifications that would enable the Department of the Interior and the Department of Commerce to make an informed decision regarding the candidate's suitability to serve on the Council. Send nominations to the Designated Federal Officer at the email provided in ADDRESSES.

Public Availability of Comments

Before including your address, phone number, email address, or other personal identifying information in your nomination, you should be aware that your entire nomination—including your personal identifying information—may be made publicly available at any time. While you can ask us to withhold your personal identifying information from public review, we cannot guarantee that we will be able to do so.

Authority: 5 U.S.C. appendix 2.

David A. Miko,
Acting Assistant Director, Fish and Aquatic Conservation, U.S. Fish and Wildlife Service.

[FR Doc. 2023-07600 Filed 4-10-23; 8:45 am]

BILLING CODE 4333-15-P